DEPARTMENT OF LABOR

Occupational Safety and Health Administration

[Docket No. NRTL2-93]

Entela, Inc., Renewal of Recognition

AGENCY: Occupational Safety and Health Administration (OSHA), Labor.

ACTION: Notice.

SUMMARY: This notice announces the Agency's final decision on the application of Entela, Inc., for renewal of its recognition as a Nationally Recognized Testing Laboratory (NRTL) under 29 CFR 1910.7.

EFFECTIVE DATE: This renewal becomes effective on July 3, 2001 and will be valid until July 3, 2006, unless terminated or modified prior to that date, in accordance with 29 CFR 1910.7.

FOR FURTHER INFORMATION CONTACT: Bernard Pasquet, Office of Technical Programs and Coordination Activities, NRTL Program, Occupational Safety and Health Administration, U.S. Department of Labor, 200 Constitution Avenue, NW, Room N3653, Washington, D.C. 20210, or phone (202) 693-2110.

SUPPLEMENTARY INFORMATION:

Notice of Final Decision

The Occupational Safety and Health Administration (OSHA) hereby gives notice of the renewal of recognition of Entela, Inc. (ENT), as a Nationally Recognized Testing Laboratory (NRTL). ENT's renewal covers its existing scope of recognition, which may be found in OSHA's informational web page for the NRTL (http://www.osha-slc.gov/dts/otpca/nrtl/ent.html).

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding, and in the second notice, the Agency provides its final decision on the application. These notices set forth the NRTL's scope of recognition or modifications of that scope.

Entela, Inc., was originally founded in 1974 as a Michigan Corporation specializing in structural steel inspection. In 1981, equipment and personnel were added to initiate an in-house materials laboratory. This was followed by a formation of certification programs within Entela, Inc. The original company was founded as Entel Engineering Services.

Entela received its recognition as an NRTL on July 26, 1994 (59 FR 37997), for a period of five years ending July 26, 1999. Appendix A to 29 CFR 1910.7 stipulates that the period of recognition of an NRTL is five years and that an NRTL may renew its recognition by applying not less than nine months, nor more than one year, before the expiration date of its current recognition. Entela submitted a request to renew its recognition on August 10, 1998 (see Exhibit 15), within the time allotted, and retains its recognition pending OSHA's final decision in this renewal process.

OSHA published the required notice in the Federal Register on March 16, 2001 (66 FR 15288) to announce ENT's renewal request. This notice included a preliminary finding that ENT could meet the requirements in 29 CFR 1910.7 for renewal of its recognition and invited public comment by April 2, 2001. OSHA received no comments concerning this notice.

In processing ENT's request, OSHA performed an on-site review (audit) of ENT's NRTL facilities listed below. NRTL Program assessment staff reviewed information from these reviews and, in a memo dated October 6, 2000 (see Exhibit 20), recommended the renewal of ENT's recognition.

The following is a chronology of the other Federal Register notices published by OSHA concerning Entela's recognition, all of which involved an expansion of recognition for additional sites, standards, or programs: a request announced on February 21, 1997 (62 FR 8041) and granted on May 22, 1997 (62 FR 28066); and a request announced on April 17, 1998 (63 FR 19275) and granted on July 10, 1998 (63 FR 37416). OSHA also published a correction of recognition on July 13, 1999 (64 FR 37815).

You may obtain or review copies of all public documents pertaining to the ENT application by contacting the Docket Office, Occupational Safety and Health Administration, U.S. Department of Labor, 200 Constitution Avenue, NW, Room N2625, Washington, D.C. 20210. You should refer to Docket No. NRTL2-93, the permanent record of public information on the ENT recognition.

The current addresses of the ENT testing facilities recognized by OSHA are: Entela, Inc., 3033 Madison, S.E., Grand Rapids, Michigan 49548, Entela Taiwan Laboratories, 3F No. 260 262 Wen, Lin North Road, Pei Tou, Taipei, Taiwan.

Programs and Procedures

The renewal of recognition includes ENT's continued use of the supplemental programs listed below, based upon the criteria detailed in the March 9, 1995 Federal Register notice (60 FR 12980). This notice lists nine (9) programs and procedures (collectively, programs), eight of which (called supplemental programs) an NRTL may use to control and audit, but not actually to generate, the data relied upon for product certification. An NRTL's initial recognition will always include the first or basic program, which requires that all product testing and evaluation be performed in-house by the NRTL that will certify the product. OSHA previously granted ENT recognition to use these programs, which are listed, as shown below, in OSHA's informational web page on the ENT recognition (http://www.osha-slc.gov/dts/otpca/nrtl/ent.html).

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to accept the activities covered under a program only when the NRTL meets certain criteria. In this sense, they are special conditions that the Agency places on an NRTL's recognition. OSHA does not consider these programs in determining whether an NRTL meets the requirements for recognition under 29 CFR 1910.7. However, these programs help to define the scope of that recognition.

Final Decision and Order

The NRTL Program staff has examined the applications, the audit reports, and other pertinent information. Based upon this examination and the assessor's recommendation, OSHA finds that Entela, Inc., has met the requirements of 29 CFR 1910.7 for renewal of its NRTL recognition. The renewal applies to the sites listed above. In addition, it covers the test standards listed below, and it is subject to limitations and conditions, also listed below. Pursuant to the authority in 29 CFR 1910.7, OSHA hereby renews the recognition of ENT, subject to these limitations and conditions.

Limitations; Renewal of Recognition of Facilities

OSHA limits the renewal of recognition of ENT to the 2 sites listed above. In addition, similar to other NRTLs that operate multiple sites, the Agency's recognition of any ENT testing site is limited to performing testing to the test standards for which OSHA has recognized ENT, and for which the site has the proper capability and control programs.

The following limitations currently apply to the recognition of the Taiwan facility, and continue to apply for the renewal:

a. The Taiwan facility shall be limited to carrying out minor mechanical and electrical testing of instruments and small appliances.

b. Performance of inspections shall be limited to Entela personnel.

Renewal of Recognition of Test Standards

OSHA further limits the renewal of recognition of ENT to testing and certification of products to demonstrate conformance to the test standards listed below (see Listing of Test Standards). OSHA has determined that each test standard meets the requirements for an appropriate test standard, within the meaning of 29 CFR 1910.7(c). Some of the test standards for which OSHA previously recognized ENT were no longer appropriate at the time of preparation of the preliminary notice, primarily because they had been withdrawn by the standards developing organization. As a result, we have excluded these test standards in the listing below. However, under OSHA policy, the NRTL may request recognition for comparable test standards, i.e., other appropriate test standards covering similar type of product testing. Since a number of NRTLs are affected by such withdrawn standards, OSHA will publish a separate notice to make the appropriate substitutions for ENT and other NRTLs that were recognized for these standards. The Agency has contacted these NRTLs regarding this matter.

This current notice includes all of OSHA's current limitations on ENT with regard to the standards listed below. These limitations appear at the end of the list of standards, and standards to which a specific limitation applies are denoted by the use of asterisks.

The Agency's recognition of ENT, or any other NRTL, for a particular test standard is always limited to equipment or materials (products) for which OSHA standards require third party testing and certification before use in the workplace. An NRTL's scope of recognition excludes any product(s) falling within the scope of the test standard for which OSHA has no testing and certification requirements.

Listing of Test Standards

UL 22 Amusement and Gaming Machines

UL 45 Portable Electric Tools

UL 48 Electric Signs

UL 50 Electric Cabinets and Boxes

UL 67 Electric Panelboards

UL 73 Motor-Operated Appliances

UL 82 Electric Gardening Appliances

UL 94 Tests for Flammability of Plastic Materials for Parts in Devices and Appliances*

UL 98 Enclosed and Dead-Front Switches

UL 122 Photographic Equipment

UL 130 Electric Heating Pads

UL 141 Garment Finishing Appliances

UL 153 Portable Electric Lamps

UL 174 Household Electric Storage-Tank Water Heaters

UL 187 X-Ray Equipment

UL 197 Commercial Electric Cooking Appliances

UL 213 Rubber Gasketed Fittings for Fire Protection Service

UL 244A Solid State Controls for Appliances

UL 250 Household Refrigerators and Freezers

UL 298 Portable Electric Hand Lamps

UL 325 Door, Drapery, Louver, and Window Operators and Systems

UL 353 Limit Controls

UL 355 Cord Reels

UL 429 Electrically Operated Valves

UL 467 Grounding and Bonding Equipment

UL 469 Musical Instruments and Accessories

UL 471 Commercial Refrigerators and Freezers

UL 482 Portable Sun/Heat Lamps

UL 484 Room Air Conditioners

UL 496 Edison-Base Lampholders

UL 499 Electric Heating Appliances

UL 506 Specialty Transformers

UL 507 Electric Fans

UL 508 Electric Industrial Control Equipment**

UL 541 Refrigerated Vending Machines

UL 542 Lampholders, Starters, and Starter Holders for Fluorescent Lamps

UL 544 Electric Medical and Dental Equipment

UL 563 Ice Makers

UL 609 Local Burglar-Alarm Units and Systems

UL 696 Electric Toys

UL 745-1 Portable Electric Tools

UL 745-2-1 Drills

UL 745-2-2 Screwdrivers and Impact Wrenches

UL 745-2-3 Grinders, Polishers and Disk-type Sanders

UL 745-2-4 Sanders

UL 745-2-5 Circular Saws and Circular Knives

UL 745-2-6 Hammers

UL 745-2-8 Shears and Nibblers

UL 745-2-9 Tappers

UL 745-2-11 Reciprocating Saws

UL 745-2-12 Concrete Vibrators

UL 745-2-14 Planers

UL 745-2-17 Routers and Trimmers

UL 745-2-30 Staplers

UL 745-2-31 Diamond Core Drills

UL 745-2-32 Magnetic Drill Press

UL 745-2-33 Portable Bandsaws

UL 745-2-34 Strapping Tools

UL 745-2-35 Drain Cleaners

UL 745-2-36 Hand Motor Tools

UL 745-2-37 Plate Joiners

UL 749 Household Dishwashers

UL 751 Vending Machines

UL 756 Coin and Currency Changers and Actuators

UL 763 Motor Operated Commercial Food Preparing Machines

UL 778 Motor-Operated Water Pumps

UL 796 Printed-Wiring Boards

UL 813 Commercial Audio Equipment

UL 817 Cord Sets & Power-Supply Cords

UL 826 Household Electric Clocks

UL 858 Household Electric Ranges

UL 859 Household Electric Personal Grooming Appliances

UL 863 Time-Indicating and Recording Appliance

UL 867 Electrostatic Air Cleaners

UL 869A Reference Standard for Service Equipment

UL 873 Temperature-Indicating and Regulating Equipment

UL 916 Energy Management Equipment

UL 917 Clock Operated Switches

UL 921 Commercial Electric Dishwashers

UL 923 Microwave Cooking Appliances

UL 924 Emergency Lighting and Power Equipment

UL 935 Fluorescent-Lamp Ballasts

UL 961 Electric Hobby and Sports Equipment

UL 969 Marking and Labeling Systems

UL 982 Motor Operated Household Food Preparing Machines

UL 984 Hermetic Refrigerant Motor-Compressors

UL 987 Stationary and Fixed Electric Tools

UL 998 Humidifiers

UL 1004 Electric Motors * * *

UL 1005 Electric Flatirons

UL 1008 Transfer Switch Equipment

UL 1012 Power Units Other Than Class 2

UL 1018 Electric Aquarium Equipment

UL 1026 Electric Household Cooking and Food-Serving Equipment

UL 1028 Hair Clipping and Shaving Appliances

UL 1029 High-Intensity Discharge Lamp Ballasts

UL 1042 Electric Baseboard Heating Equipment

UL 1069 Hospital Signaling and Nurse-Call System

UL 1082 Household Electric Coffee Makers and Brewing-Type Appliances

UL 1083 Household Electric Skillets and Frying Type Appliances

UL 1086 Household Trash Compactors

UL 1088 Temporary Lighting Strings

UL 1206 Electric Commercial Clothes Washing Machines

UL 1230 Amateur Movie Lights

UL 1236 Battery Chargers For Charging Engine-Starter Batteries

UL 1244 Electrical and Electronic Measuring and Testing Equipment

UL 1261 Electric Water Heaters for Pools and Tubs

UL 1262 Laboratory Equipment

UL 1270 Radio Receivers, Audio Systems, and Accessories

UL 1286 Office Furnishings

UL 1310 Class 2 Power Units

UL 1410 Television Receivers and High-Voltage Video Products

UL 1418 Cathode-Ray Tubes

UL 1431 Personal Hygiene and Health Care Appliances

UL 1433 Control Centers for Changing Message Type Electric Signs

UL 1445 Electric Water Bed Heaters

UL 1447 Electric Lawn Mowers

UL 1448 Electric Hedge Trimmers

UL 1459 Telephone Equipment

UL 1472 Solid-State Dimming Controls

UL 1492 Audio-Video Products & Accessories

UL 1564 Industrial Battery Chargers

UL 1570 Fluorescent Lighting Fixtures

UL 1571 Incandescent Lighting Fixtures

UL 1572 High Intensity Discharge Lighting Fixtures

UL 1573 Stage and Studio Lighting Units

UL 1574 Track Lighting Systems

UL 1585 Class 2 and Class 3 Transformers

UL 1594 Sewing and Cutting Machines

UL 1638 Visual Signaling Appliances

UL 1647 Motor-Operated Massage and Exercise Machines

UL 1727 Commercial Electric Personal Grooming Appliances

UL 1786 Nightlights

UL 1838 Low Voltage Landscape Lighting Systems

UL 1950 Information Technology Equipment Including Electrical Business Equipment

UL 1993 Self-Ballasted Lamps and Lamp Adapters

UL 2044 Commercial Closed Circuit Television Equipment

UL 2157 Electric Clothes Washing Machines and Extractors

UL 2161 Neon Transformers and Power Supplies

UL 2601-1 Medical Electrical Equipment, Part 1: General Requirements for Safety

UL 3044 Surveillance Closed Circuit Television Equipment

UL 3101-1 Electric Equipment for Laboratory Use, Part 1, General

UL 3111-1 Electrical Measuring and Test Equipment, Part 1: General

UL 6500 Audio/Video and Musical Instrument Apparatus for Household, Commercial, and Similar General Use

UL 8730-1 Electrical Controls for Household and Similar Use; Part 1: General Requirements

UL 8730-2-3 Automatic Electrical Controls for Household and Similar Use; Part 2: Particular Requirements for Thermal Motor Protectors for Ballasts for TubuLar Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

_______

*Exclusive of radiant panel testing.

**Limited to equipment of no greater than 500 amperes.

***Limited to motors rated no greater than one-half horsepower.

Note: Testing and certification of gas operated equipment is limited to equipment for use with “liquefied petroleum gas” (“LPG” or “LP-Gas”).

The designations and titles of the above test standards were current at the time of the preparation of the notice of the preliminary finding.

Many of the test standards listed above are approved as American National Standards by the American National Standards Institute (ANSI). However, for convenience in compiling the list, we show the designation of the standards developing organization (e.g., UL 1950) for the standard, as opposed to the ANSI designation (e.g., ANSI/UL 1950). Under our procedures, an NRTL recognized for an ANSI-approved test standard may use either the latest proprietary version of the test standard or the latest ANSI version of that standard, regardless of which version appears in its list of test standards. Contact ANSI or the ANSI web site (www.ansi.org) and click “NSSN” to find out whether or not a standard is currently ANSI-approved.

None of the above standards had been withdrawn by the standards developing organization (SDO) at the time of the preparation of the notice of preliminary finding.

Conditions

Entela, Inc. must also abide by the following conditions of the recognition, in addition to those already required by 29 CFR 1910.7:

OSHA must be allowed access to the ENT facilities and records for purposes of ascertaining continuing compliance with the terms of its recognition and to investigate as OSHA deems necessary;

If ENT has reason to doubt the efficacy of any test standard it is using under this program, it must promptly inform the organization that developed the test standard of this fact and provide that organization with appropriate relevant information upon which its concerns are based;

ENT must not engage in or permit others to engage in any misrepresentation of the scope or conditions of its recognition. As part of this condition, ENT agrees that it will allow no representation that it is either a recognized or an accredited Nationally Recognized Testing Laboratory (NRTL) without clearly indicating the specific equipment or material to which this recognition is tied, or that its recognition is limited to certain products;

ENT must inform OSHA as soon as possible, in writing, of any change of ownership, facilities, or key personnel, and of any major changes in its operations as an NRTL, including details;

ENT will continue to meet all the terms of its recognition and will always comply with all OSHA policies pertaining to this recognition; and

ENT will continue to meet the requirements for recognition in all areas where it has been recognized.

Signed at Washington, D.C. this 15 day of June, 2001.
R. Davis Layne,
Acting Assistant Secretary.

[FR Doc. 01-16670 Filed 7-2-01; 8:45 am]

BILLING CODE 4510-26-P